DEPARTMENT OF TRANSPORTATION

Federal Aviation Administration

14 CFR Part 39

[Docket No. FAA-2005-20424; Directorate Identifier 2004-NM-268-AD; Amendment 39-13986; AD 2005-04-14]

RIN 2120-AA64

Airworthiness Directives; Boeing Model 757-200, 757-200CB, and 757-200PF Series Airplanes Equipped With Rolls Royce Model RB211 Engines

AGENCY: Federal Aviation Administration (FAA), Department of Transportation (DOT).

ACTION: Final rule; request for comments.

SUMMARY: The FAA is superseding an existing airworthiness directive (AD) that applies to certain Boeing Model 757-200, 757-200CB, and 757-200PF series airplanes. The existing AD currently requires repetitive detailed inspections to detect horizontal or vertical movement of the shims at the joint of the mid-bulkhead and the upper link fittings, and corrective action if necessary; or certain alternative actions that terminate the requirement for the repetitive inspections. This new AD continues to require those repetitive inspections; decreases the allowable tolerance for shim migration; and adds new repetitive detailed inspections for cracking of the entire mid-bulkhead, and repair if necessary. This new AD also adds additional airplanes to the applicability of the AD. This AD is prompted by reports of cracks in the mid-bulkhead lower vertical flange common to the lower chord and stiffener and reports of cracking at other locations on the mid-bulkhead. We are issuing this AD to detect and correct migration of shims at the joint of the mid-bulkhead and the upper link fittings and cracking of the mid-bulkhead, which could result in cracking of the strut and consequent loss of the strut and engine.

DATES: Effective March 15, 2005.

The incorporation by reference of Boeing Service Bulletin 757-54A0039, Revision 2, dated December 2, 2004; and Boeing Service Bulletin 757-54A0039, Revision 3, dated January 13, 2005; as listed in the AD are approved by the Director of the Federal Register as of March 15, 2005.

On April 18, 2003 (68 FR 16200, April 3, 2003), the Director of the Federal Register approved the incorporation by reference of Boeing Alert Service Bulletin 757-54A0039, Revision 1, dated June 20, 2002.

We must receive any comments on this AD by April 29, 2005.

ADDRESSES: Use one of the following addresses to submit comments on this AD.

• DOT Docket Web Site: Go to http://dms.dot.gov and follow the instructions for sending your comments electronically.

• Government-Wide Rulemaking Web Site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street, SW., room PL-401, on the plaza level of the Nassif Building, Washington, DC. This docket number is FAA-2005-20424; the directorate identifier for this docket is 2004-NM-268-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION: On March 26, 2003, we issued AD 2003-07-08, amendment 39-13104 (68 FR 16200, April 3, 2003). That AD applies to certain Boeing Model 757-200, 757-200CB, and 757-200PF series airplanes. That AD requires repetitive detailed inspections to detect horizontal or vertical movement of the shims at the joint of the mid-bulkhead and the upper link fittings, and corrective action if necessary; or certain alternative actions that terminate the requirement for the repetitive inspections. That AD was prompted by reports of cracks in the mid-bulkhead lower vertical flange common to the lower chord and stiffener and reports of cracking at other locations on the mid-bulkhead on certain Boeing Model 757-200, 757-200CB, and 757-200PF series airplanes. The actions specified in that AD are intended to detect and correct migration of shims at the joint of the mid-bulkhead and the upper link fittings, which could result in cracking of the strut and consequent loss of the strut and engine.

Actions Since AD Was Issued

Since we issued that AD, we have received reports of cracking of the mid-bulkhead in the lower horizontal flange common to the lower chord. We have also received several reports of cracking of the mid-bulkhead in the lower vertical flange common to the lower chord and stiffener and at other areas remote from the lower flanges. Cracking of the mid-bulkhead could result in cracking of the strut and consequent loss of the strut and engine.

Relevant Service Information

We have reviewed Boeing Service Bulletin (SB) 757-54A0039, Revision 2, dated December 2, 2004; and Revision 3, dated January 13, 2005. The service bulletins describe the following:

• Part I of the Accomplishment Instructions describes procedures for performing repetitive detailed inspections of the laminated shims at the joint of the mid-bulkhead and upper link fittings to detect any vertical or horizontal movement of the shims.

• Part II of the Accomplishment Instructions describes procedures for performing a detailed inspection and high frequency eddy current (HFEC) inspection for cracking or deformation of the fittings and bolt holes and replacing the shim and sleevebolts with new shims and sleevebolts. Part II also contains procedures for accomplishing a general visual and HFEC inspections for cracking and deformation in the sleevebolt holes and in the fittings. Additionally, Part II recommends that operators contact Boeing if any shim cannot be removed, or if cracking or deformation of the fittings and bolt holes is found.

• Part III of the Accomplishment Instructions describes procedures for performing a one-time non-destructive test (NDT) inspection for cracking, and repair, including an insurance cut of the bolt holes (Figure 9 of the SBs) in the mid-bulkhead, if necessary.

• Part IV of the Accomplishment Instructions describes procedures for performing repetitive detailed inspections for cracking of the entire mid-bulkhead, and contacting Boeing for disposition of any cracking detected.

The SBs specify that accomplishing Part II and Part III of the Accomplishment Instructions eliminates the need for the Part I repetitive inspections.

FAA's Determination and Requirements of This AD

The unsafe condition described previously is likely to exist or develop on other airplanes of the same type design. This AD is being issued to supersede AD 2003-07-08. This new AD continues to require repetitive detailed inspections to detect horizontal or vertical movement of the shims at the joint of the mid-bulkhead and the upper link fittings, and corrective action if necessary. This AD also decreases the allowable tolerance for shim migration. Additionally, this AD adds airplanes to the applicability of the AD. This AD also requires repetitive detailed inspections for cracking of the mid-bulkhead, and repair if necessary.

Differences Between the AD and the Service Information

Revisions 2 and 3 of the SB recommend that operators who have accomplished the actions described in Boeing Alert SB 757-54A0039, dated November 2, 2000, perform a one-time NDT and/or HFEC inspection for cracking of the mid-bulkhead as shown in Figure 9 of the ASB, and repair if necessary. Operators should note that this AD requires those operators to perform a detailed inspection for cracking rather than an NDT and/or HFEC inspection. We have determined that, for airplanes on which the actions specified in Parts I and II of the Accomplishment Instructions of Boeing Alert SB 757-54A0039, dated November 2, 2000, have been accomplished previously, a detailed inspection for cracking, and repair if necessary, within 90 days of the effective date of this AD, and repetitive detailed inspections, are adequate to continue to provide an acceptable level of safety for this interim action.

Operators also should note that, although the SBs specify that the manufacturer may be contacted for further instructions if a shim cannot be removed or for disposition of certain repair conditions, this AD requires the repair of those conditions to be accomplished in accordance with a method approved by the FAA, or in accordance with data meeting the type certification basis of the airplane approved by an Authorized Representative (AR) for the Boeing Delegation Option Authorization (DOA) Organization who has been authorized by the FAA to make those findings.

Changes to Delegation Authority

Since the issuance of AD 2003-07-08, Boeing has received a DOA. For the new requirements of this AD, we have specified the delegation of authority to approve an alternative method of compliance for any repair required by this AD to the AR for the Boeing DOA Organization, who has been authorized by the FAA to make these findings, rather than the Designated Engineering Representative, as specified in AD 2003-07-08.

Change to Existing AD

This AD would retain certain requirements of AD 2003-07-08. Since AD 2003-07-08 was issued, the AD format has been revised, and certain paragraphs have been rearranged. As a result, the corresponding paragraph identifiers have changed in this AD, as listed in the following table:

Revised Paragraph Identifiers
Requirement in AD 2003-07-08 | Corresponding requirement in this AD
Paragraph (a) | Paragraph (f).
Paragraph (b) | Paragraph (g).
Paragraph (c) | Paragraph (h).
Paragraph (d) | Paragraph (i).
Paragraph (e) | Paragraph (j).
Paragraph (f) | Paragraph (k).
Paragraph (g) | Paragraph (l).
Paragraph (h) | Paragraph (m).

Interim Action

This is considered to be interim action. We discussed previously that this AD does not require certain HFEC inspections as specified in the referenced service bulletin. However, we are currently considering requiring those HFEC inspections for cracking in and around the bolt holes of the left and right side of the mid-bulkhead strut, and repair if necessary. However, the planned compliance time for the HFEC inspections is sufficiently long so that notice and opportunity for prior public comment will be practicable.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-20424; Directorate Identifier 2004-NM-268-AD” at the beginning of your comments. We specifically invite comments on the overall regulatory, economic, environmental, and energy aspects of the AD. We will consider all comments received by the closing date and may amend the AD in light of those comments.

We will post all comments we receive, without change, to http://dms.dot.gov including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing amendment 39-13104 (68 FR 16200, April 3, 2003) and adding the following new airworthiness directive (AD):

2005-04-14 Boeing: Docket No. FAA-2005-20424; Directorate Identifier 2004-NM-268-AD; Amendment 39-13986.

Effective Date

(a) This AD becomes effective March 15, 2005.

Affected ADs

(b) This AD supersedes AD 2003-07-08, amendment 39-13104 (68 FR 16200, April 3, 2003).

Applicability: (c) This AD applies to Boeing Model 757-200, 757-200CB, and 757-200PF series airplanes; certificated in any category; equipped with Rolls Royce Model RB211 engines; as identified in Boeing Service Bulletin 757-54A0039, Revision 3, dated January 13, 2005.

Unsafe Condition

(d) This AD was prompted by reports of cracks in the mid-bulkhead lower vertical flange common to the lower chord and stiffener and reports of cracking at other locations on the mid-bulkhead. We are issuing this AD to detect and correct migration of shims at the joint of the mid-bulkhead and the upper link fittings and cracking on the mid-bulkhead, which could result in cracking of the strut and consequent loss of the strut and engine.

Compliance: (e) You are responsible for having the actions required by this AD performed within the compliance times specified, unless the actions have already been done.

Restatement of Certain Requirements of 2003-07-08

Inspection for Movement of Shims and Corrective Actions

(f) For Groups 1 and 2 airplanes, as identified in Boeing Alert Service Bulletin (ASB) 757-54A0039, Revision 1, dated June 20, 2002; Boeing Service Bulletin (SB) 757-54A0039, Revision 2, dated December 2, 2004; and Boeing Service Bulletin 757-54A0039, Revision 3, dated January 13, 2005; with the exception of the airplanes specified in paragraph (j) of this AD: Within 90 days after April 18, 2003 (the effective date of AD 2003-07-08), perform a detailed inspection to detect horizontal or vertical movement of the shims at the joint of the mid-bulkhead and the upper link fittings, per Boeing ASB 757-54A0039, Revision 1, dated June 20, 2002; or Boeing SB 757-54A0039, Revision 2, dated December 2, 2004, or Revision 3, dated January 13, 2005.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(g) If all laminated shims have not moved, or if all laminated shims have moved less than 0.25 inch: Before further flight, perform the actions specified in either paragraph (g)(1) or (g)(2) of this AD, per Boeing ASB 757-54A0039, Revision 1, dated June 20, 2002; or Boeing SB 757-54A0039, Revision 2, dated December 2, 2004, or Revision 3, dated January 13, 2005.

(1) Perform the actions specified in paragraph 3.B.6 of the Accomplishment Instructions of the ASB (e.g., measure and record movement of the shim, cut the exposed plies, and seal adjacent surfaces and edges), and repeat the detailed inspections at intervals not to exceed 12,000 flight cycles or 72 months, whichever occurs first. At each inspection interval, the previously recorded measurement must be added to the current measurement so that the cumulative total movement of the shim is recorded. If the cumulative total movement exceeds 0.25 inch but is less than 0.90 inch, before further flight, perform the actions specified in paragraph (h) of this AD. If the cumulative total movement measures 0.90 inch or more: Before further flight, perform the actions specified in paragraph (i) of this AD. Or,

(2) Perform the actions specified in paragraphs (l) and (m) of this AD.

(h) If any laminated shim has moved 0.25 inch or more but less than 0.90 inch: Before further flight, perform the actions specified in paragraph (h)(1) or (h)(2) of this AD, per Boeing ASB 757-54A0039, Revision 1, dated June 20, 2002; or Boeing SB 757-54A0039, Revision 2, dated December 2, 2004, or Revision 3, dated January 13, 2005.

(1) Before further flight, perform the actions specified in paragraph 3.B.6 of the Accomplishment Instructions of the ASB (e.g., measure and record movement of the shim, cut the exposed plies and seal adjacent surfaces and edges), and repeat the detailed inspections at intervals not to exceed 3,000 flight cycles or 18 months, whichever occurs first. At each inspection interval, the previously recorded measurement must be added to the current measurement so that the cumulative total movement of the shim is recorded. If the cumulative total movement measures 0.90 inch or more, before further flight, perform the actions specified in paragraph (i) of this AD. Or,

(2) Perform the actions specified in paragraphs (l) and (m) of this AD.

(i) If any laminated shim has moved 0.90 inch or more: Before further flight, perform the actions specified in paragraphs (l) and (m) of this AD.

Inspection of Lower Mid-Spar Bolts

(j) For airplanes on which the actions specified in Boeing Alert Service Bulletin (ASB) 757-54A0039, dated November 2, 2000, have been accomplished prior to April 18, 2003: Within 90 days after April 18, 2003, perform a detailed inspection for cracking around the four bolt heads, nuts, washers, and radius fillers specified in Figure 9 of Boeing ASB 757-54A0039, Revision 1, dated June 20, 2002; or Boeing SB 757-54A0039, Revision 2, dated December 2, 2004, or Revision 3, dated January 13, 2005.

(1) If no cracking is found, repeat the detailed inspection at intervals not to exceed 3,000 flight cycles.

(2) If any cracking is found, before further flight, repair per a method approved by the Manager, Seattle Aircraft Certification Office (ACO), FAA; or per data meeting the type certification basis of the airplane approved by a Boeing Company Designated Engineering Representative (DER) who has been authorized by the Manager, Seattle ACO, to make such findings; or by an Authorized Representative (AR) for the Boeing Delegation Option Authorization (DOA) Organization who has been authorized by the Manager, Seattle ACO, to make those findings. For a repair method to be approved, the approval must specifically reference this AD.

Optional Terminating Action for Certain Requirements of This AD

(k) For Groups 1, 2, and 3, as identified in Boeing SB 757-54A0039, Revision 2, dated December 2, 2004; or Revision 3, dated January 13, 2005: Accomplishment of the actions specified in paragraphs (l) and (m) of this AD constitutes terminating action for the repetitive inspection requirements of paragraphs (g), (h), and (j)(1) of this AD. Accomplishment of paragraphs (l) and (m) of this AD also constitutes terminating action for paragraphs (o), (p), and (q), if accomplished prior to the effective of this AD.

(l) Replace any laminated shim with a solid shim; replace existing sleevebolts with new, oversized sleevebolts; and perform a general visual and high-frequency eddy current (HFEC) inspection to detect cracking and deformation in the sleevebolt holes and in the fittings, as shown in Part II, Figure 3, of Boeing Alert Service Bulletin 757-54A0039, Revision 1, dated June 20, 2002; or Boeing SB 757-54A0039, Revision 2, dated December 2, 2004, or Revision 3, dated January 13, 2005. If any shim cannot be removed, or if any cracking or deformation is found: Before further flight, repair per a method approved by the Manager, Seattle ACO, FAA; or per data meeting the type certification basis of the airplane approved by a Boeing DER who has been authorized by the Manager, Seattle ACO, to make such findings; or by an AR for the Boeing DOA Organization who has been authorized by the Manager, Seattle ACO, to make those findings. For a repair to be approved, the approval must specifically reference this AD. No further action is required by this paragraph.

(m) Perform a one-time HFEC inspection for cracking in and around the bolt holes of the left and right side of the mid-bulkhead strut as shown in Part III, Figure 9, of Boeing ASB 757-54A0039, Revision 1, dated June 20, 2002; or Boeing SB 757-54A0039, Revision 2, dated December 2, 2004, or Revision 3, dated January 13, 2005.

(1) If no cracking is found during any inspection specified in paragraph (m) of this AD, before further flight, install oversized bolts per Figure 10 of the ASB. No further action is required by this paragraph.

(2) If any cracking is found during any inspection specified in paragraph (m) of this AD that is within the limits specified in the ASB: Before further flight, repair per the ASB.

(3) If any cracking is found during any inspection specified in paragraph (m) of this AD that is outside the limits specified by the ASB and the ASB specifies to contact Boeing for appropriate action: Before further flight, repair per a method approved by the Manager, Seattle ACO, FAA; or per data meeting the type certification basis of the airplane approved by a Boeing DER who has been authorized by the Manager, Seattle ACO, to make such findings; or by an AR for the Boeing DOA Organization who has been authorized by the Manager, Seattle ACO, to make those findings. For a repair method to be approved, the approval must specifically reference this AD.

New Requirements of This AD

Detailed Inspections of the Mid-Bulkhead

(n) For all airplanes: Prior to the accumulation of 8,000 total flight cycles, or within 90 days after the effective date of this AD, whichever occurs later, perform a detailed inspection for cracking of the entire mid-bulkhead, in accordance with the Accomplishment Instructions of Boeing SB 757-54A0039, Revision 3, dated January 13, 2005.

(1) If no cracking is detected, repeat the inspection thereafter at intervals not to exceed 3,000 flight cycles.

(2) If any cracking is detected, before further flight, repair in accordance with a method approved by the Manager, Seattle ACO, FAA; or according to data meeting the certification basis of the airplane approved by an AR for the Boeing DOA Organization who has been authorized by the Manager, Seattle ACO, to make those findings. For a repair method to be approved, the approval must specifically reference this AD. Thereafter, repeat the inspection at intervals not to exceed 3,000 flight cycles.

Inspections for Migration of Shims for Certain Airplanes

(o) For Group 3 airplanes, as identified in Boeing SB 757-54A0039, Revision 3, dated January 13, 2005: Within 90 days after the effective date of this AD, perform a detailed inspection to detect horizontal or vertical movement of the shims at the joint of the mid-bulkhead and the upper link fittings; in accordance with the Accomplishment Instructions of the SB. If the total shim migration is 0.3 inch or less, repeat the inspection thereafter at intervals not to exceed 3,000 flight cycles. Accomplishment of paragraphs (l) and (m) of this AD constitute terminating action for the requirements of this paragraph, if accomplished prior to the effective of this AD.

Inspections for Migration of Shims for Certain Other Airplanes

(p) For Groups 1 and 2 airplanes, as identified in Boeing Service Bulletin 757-54A0039, Revision 3, dated January 13, 2005: If the total shim migration was 0.3 inch or less at the last inspection performed in accordance with paragraph (g)(1) of this AD, within 3,000 flight cycles after the last inspection performed, or within 90 days after the effective date of this AD, whichever occurs later, perform the next shim migration inspection in accordance with the Accomplishment Instructions of Revision 3 of the SB. Thereafter, repeat the inspection at intervals not to exceed 3,000 flight cycles. Accomplishment of the initial inspection in accordance with Revision 3 terminates the requirements of paragraphs (g) and (h) of this AD. Accomplishment of paragraphs (l) and (m) of this AD constitute terminating action for the requirements of this paragraph, if accomplished prior to the effective of this AD.

For Shim Migration That Is More Than 0.3 Inch

(q) For Groups 1, 2, and 3 airplanes, as identified in Boeing Service Bulletin 757-54A0039, Revision 3, dated January 13, 2005: If any total shim migration is more than 0.30 inch, prior to further flight or within 90 days after the effective date of this AD, whichever occurs later, perform the actions specified in paragraphs (t) and (u) of this AD. Accomplishment of paragraphs (l) and (m) of this AD constitute terminating action for the requirements of this paragraph, if accomplished prior to the effective of this AD.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspection of Lower Mid-Spar Bolts

(r) For Groups 1, 2, and 3 airplanes, identified in Boeing Service Bulletin 757-540039, Revision 3, dated January 13, 2005: Within 90 days after the effective date of this AD, or within 3,000 flight cycles after the last inspection of the lower mid-spar bolts required by paragraph (j) of this AD, whichever occurs later, perform a detailed inspection for cracking around the four bolt heads, nuts, washers, and radius fillers specified in Figure 9 of the Accomplishment Instructions of Boeing SB 757-54A0039, Revision 3, dated January 13, 2005.

(1) If no cracking is found, repeat the detailed inspection at intervals not to exceed 3,000 flight cycles.

(2) If any cracking is found, before further flight, repair per a method approved by the Manager, Seattle ACO, FAA; or per data meeting the type certification basis of the airplane approved by a Boeing an AR for the Boeing DOA Organization who has been authorized by the Manager, Seattle ACO, to make such findings. For a repair method to be approved, the approval must specifically reference this AD. Thereafter, repeat the inspection at intervals not to exceed 3,000 flight cycles.

Terminating Action for Certain Requirements

(s) For Groups 1, 2, and 3 airplanes, identified in Boeing Service Bulletin 757-54A0039, Revision 3, dated January 13, 2005: Accomplishment of paragraphs (t) and (u) of this AD constitutes terminating action for the repetitive inspections of paragraphs (g), (h), (o), and (p) of this AD.

Replacement of Shims and Sleevebolts

(t) For Groups 1, 2, and 3 airplanes, identified in Boeing Service Bulletin 757-540039, Revision 3, dated January 13, 2005: Replace all laminated shims with solid shims; replace existing sleevebolts with new, oversized sleevebolts; and perform a general visual and HFEC inspection to detect cracking and deformation in the sleevebolt holes and in the fittings; as specified in Part II of the Accomplishment Instructions of Boeing Service Bulletin 757-54A0039, Revision 3, dated January 13, 2005. If any shim cannot be removed, or if any cracking or deformation is found: Before further flight, repair in accordance with a method approved by the Manager, Seattle ACO, FAA; or according to data meeting the certification basis of the airplane approved by an AR for the Boeing DOA Organization who has been authorized by the Manager, Seattle ACO, to make those findings. For a repair method to be approved, the approval must specifically reference this AD.

One-Time HFEC Inspection

(u) For Groups 1, 2, and 3, as identified in Boeing SB 757-54A0039, Revision 3, dated January 13, 2005: Perform a one-time HFEC inspection for cracking in and around the bolt holes of the right and left side of the mid-bulkhead lower flanges, in accordance with Part III of the Accomplishment Instructions of Boeing SB 757-54A0039, Revision 3, dated January 13, 2005.

(1) If no cracking is found: Before further flight, install oversized bolts per Figure 10 of the SB.

(2) If any cracking is found that is within the limits of the SB: Before further flight, repair per the SB.

(3) If any cracking is found that is outside the limits of the SB and the SB specifies to contact Boeing for appropriate action: Before further flight, repair in accordance with a method approved by the Manager, Seattle ACO, FAA; or according to data meeting the certification basis of the airplane approved by an AR for the Boeing DOA Organization who has been authorized by the Manager, Seattle ACO, to make those findings. For a repair method to be approved, the approval must specifically reference this AD.

Alternative Methods of Compliance (AMOCs)

(v)(1) The Manager, Seattle ACO, FAA, has the authority to approve AMOCs for this AD, if requested in accordance with the procedures found in 14 CFR 39.19.

(2) An AMOC that provides an acceptable level of safety may be used for any repair required by this AD, if it is approved by an AR for the Boeing DOA Organization who has been authorized by the Manager, Seattle ACO, to make those findings. For a repair method to be approved, the approval must specifically reference this AD.

Material Incorporated by Reference

(w) You must use Boeing Alert Service Bulletin 757-54A0039, Revision 1, dated June 20, 2002; Boeing Service Bulletin 757-54A0039, Revision 2, dated December 2, 2004; or Boeing Service Bulletin 757-54A0039, Revision 3, dated January 13, 2005; to perform the actions that are required by this AD, unless the AD specifies otherwise.

(1) The incorporation by reference of Boeing Service Bulletin 757-54A0039, Revision 2, dated December 2, 2004; and Boeing Service Bulletin 757-54A0039, Revision 3, dated January 13, 2005, is approved by the Director of the Federal Register in accordance with 5 U.S.C. 552(a) and 1 CFR part 51.

(2) The incorporation by reference of Boeing Alert Service Bulletin 757-54A0039, Revision 1, dated June 20, 2002, was approved previously by the Director of the Federal Register as of April 18, 2003 (68 FR 16200, April 3, 2003).

(3) For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on February 14, 2005.
Ali Bahrami,
Manager, Transport Airplane Directorate, Aircraft Certification Service.

[FR Doc. 05-3558 Filed 2-25-05; 8:45 am]

BILLING CODE 4910-13-P